NATIONAL SCIENCE FOUNDATION

Notice of Permit Modification Request Received Under the Antarctic Conservation Act of 1978

AGENCY: National Science Foundation.

ACTION: Notice of permit modification request received under the Antarctic Conservation Act of 1978, Public Law 95-541.

SUMMARY: Notice is hereby given that the National Science Foundation (NSF) has received a request to modify a permit issued to conduct activities regulated under the Antarctic Conservation Act of 1978 (Pub. L. 95-541; Code of Federal Regulations Title 45, Part 670).

DATES: Interested parties are invited to submit written data, comments, or views with respect to the permit modification by November 2, 2009. The permit modification request may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale or Nadene G. Kennedy at the above address or (703) 292-8030.

Description of Permit Modification Requested

On October 26, 2006, the National Science Foundation issued a waste management permit (2007 WM-001) to Rennie S. Holt, Director, Antarctic Marine Living Resources (AMLR) Program, Southwest Fisheries Service after posting a notice in the May 19, 2006 Federal Register. Public comments were not received. The issued permit was for the operation and maintenance of a remote science field camp at Cape Shirreff. Dr. Rennie Holt has subsequently retired and a new Director for the AMLR Program, Dr. George Watters, is now the permit holder. He has requested modifications to his waste permit to cover the use of an all-terrain vehicle (ATV) and construction of a small storage facility. The ATV is to replace the one originally provided by the Chilean Program to help move supplies and field cargo. In addition the AMLR Program plans to use an unmanned aerial vehicle (VTOL-UAV) for conducting census surveys of animal colonies. Finally the Program wishes up to release at sea up to 150 XBT's (expendable bathythermographs) and 55 drifters per annum to collect hydrographic data within the study survey grid to better understand the relationship between the target species and their environment.

The duration of the requested modifications is coincident with the current permit which expires on April 15, 2011.

Nadene G. Kennedy,
Permit Officer.

[FR Doc. E9-23732 Filed 9-30-09; 8:45 am]

BILLING CODE 7555-01-P